DEPARTMENT OF HOMELAND SECURITY

United States Immigration and Customs Enforcement

Agency Information Collection Activities: Extension, Without Change, of a Currently Approved Collection; Comment Request

ACTION: 60-Day Notice of Information Collection; Form I-312, Designation of Attorney In Fact; OMB Control No. 1653-0041.

The Department of Homeland Security, U.S. Immigration and Customs Enforcement (ICE), will submit the following information collection request for review and clearance in accordance with the Paperwork Reduction Act of 1995. The information collection is published to obtain comments from the public and affected agencies. Comments are encouraged and will be accepted for sixty days until August 13, 2012.

Written comments and suggestions regarding items contained in this notice, and especially with regard to the estimated public burden and associated response time should be directed to the Department of Homeland Security (DHS), John Ramsay, Program (Forms) Manager, U.S. Immigration and Customs Enforcement, 500 12th Street SW., Stop 5705, Washington, DC 20536; (202) 732-4367.

Comments are encouraged and will be accepted for sixty days until August 13, 2012. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved collection.

(2) Title of the Form/Collection: Designation of Attorney In Fact.

(3) Agency form number, if any, and the applicable component of the Department of Homeland Security sponsoring the collection: Form I-312, U.S. Immigration and Customs Enforcement.

Affected public who will be asked or required to respond, as well as a brief abstract: Primary: Individual or households; The I-312 is the instrument the U.S. Immigration and Customs Enforcement uses to provide immigration bond holders a means to designate and attorney to accept on the Obligor's behalf, the return of cash or United States bonds or notes deposited to secure an immigration bond upon the cancellation of the bond or the performance of the Obligor.

(5) An estimate of the total number of respondents and the amount of time estimated for an average respondent to respond: 12,500 responses at 30 minutes (.5 hours) per response.

(6) An estimate of the total public burden (in hours) associated with the collection: 6,250 annual burden hours

Comments and/or questions; requests for a copy of the proposed information collection instrument, with instructions; or inquiries for additional information should be directed to: Rich Mattison, Chief, Records Branch, U.S. Immigration and Customs Enforcement, 500 12th Street SW., Stop 5705, Washington, DC 20536; (202) 732-4356.

Dated: June 8, 2012.
Rich Mattison,
Chief, Records Management Branch, U.S. Immigration and Customs Enforcement, Department of Homeland Security.

[FR Doc. 2012-14522 Filed 6-13-12; 8:45 am]

BILLING CODE 9111-28-P